DEPARTMENT OF TRANSPORTATION

Federal Aviation Administration

Notice of Intent To Request Renewal From the Office of Management and Budget (OMB) of Four Current Public Collections of Information

AGENCY: Federal Aviation Administration (FAA), DOT.

ACTION: Notice.

SUMMARY: In compliance with the Paperwork Reduction Act (44 U.S.C. 3501 et seq.), the FAA invites public comment on four currently approved public information collections which will be submitted to OMB for renewal.

DATES: Comments must be received on or before May 27, 2003.

ADDRESSES: Comments may be mailed or delivered to the FAA at the following address: Ms. Judy Street, Room 613, Federal Aviation Administration, Standards and Information Division, APF-100, 800 Independence Ave., SW., Washington, DC 20591.

FOR FURTHER INFORMATION CONTACT: Ms. Judy Street at the above address or on (202) 267-9895.

SUPPLEMENTARY INFORMATION: In accordance with the Paperwork Reduction Act of 1995, an agency may not conduct or sponsor, and a person is not required to respond to a collection of information unless it displays a currently valid OMB control number. Therefore, the FAA solicits comments on the following current collections of information in order to evaluate the necessity of the collection, the accuracy of the agency's estimate of the burden, the quality, utility, and clarity of the information to be collected, and possible ways to minimize the burden of the collection in preparation for submission to renew the clearances of the following information collections.

1. 2120-0045: Bird/Other Wildlife Strike. Wildlife strike data are collected to develop standards and monitor hazards to aviation. Data identify wildlife strike control requirements and provide in-service data on aircraft component failure. The respondents would include the pilot-in-command of an aircraft involved in an aircraft-wildlife collision, ATCT personnel, or other airport or airline personnel who have knowledge of the incident. The current estimated annual reporting burden is 400 hours.

2. 2120-0557: Passenger Facility Charge (PFC) Application. 49 U.S.C. 40117 authorizes airports to impose passenger facility charges. This program requires public agencies and certain members of the aviation industry to prepare and submit applications and reports to the FAA. This program provides additional funding for airport development which is needed now and in the future. The current estimated annual reporting burden is 26,292 hours.

3. 2120-0614: Revised Standards for Cargo or Baggage Compartments in Transport category Airplanes. The information collection from part 121 carriers is necessary to ensure the operator's compliance to the upgrade of the fire safety standards for cargo or baggage compartments in certain transport category airplanes by eliminating Class D compartments. The current estimated annual reporting burden is 720 hours.

4. 2120-0616: revisions to Digital Flight Data Recorders. This rule requires that certain airplanes be equipped to accommodate additional digital flight data recorder parameters. The revisions require additional information to be collected to enable more thorough accident or incident investigations and to enable the industry to predict certain trends and make necessary modifications before an accident or incident happens. This is a passive information collection activity, and the assigned hourly burden is 1 hour.

Issued in Washington, DC, on March 18, 2003.
Judith D. Street,
FAA Information Collection Clearance Officer, APF-100.

[FR Doc. 03-7380 Filed 3-27-03; 8:45 am]

BILLING CODE 4910-13-M